DEPARTMENT OF HOMELAND SECURITY

Coast Guard

[USCG-2009-0485]

National Offshore Safety Advisory Committee

AGENCY: Coast Guard, DHS.

ACTION: Notice of open teleconference meeting.

SUMMARY: This notice announces a teleconference meeting of the National Offshore Safety Advisory Committee (NOSAC) to discuss items listed in the agenda as well as other items that NOSAC may consider. This meeting will be open to the public.

DATES: The teleconference call will take place on Wednesday, July 8, 2009, from 10 a.m. to 1 p.m. EST. This meeting may close early if all business is finished. Written material and requests to make oral presentations should reach the Coast Guard on or before July 1, 2009. Requests to have a copy of your material distributed to each member of the committee should reach the Coast Guard on or before July 1, 2009.

ADDRESSES: The Committee will meet, via telephone conference, on July 8, 2009. Members of the public wishing to participate may contact Commander P.W. Clark at 202-372-1410 for call in information or they may participate in person by coming to Room 3317, U.S. Coast Guard Headquarters Building, 2100 Second Street, SW., Washington, DC 20593. As there are a limited number of teleconference lines, public participation will be on a first come basis. Written comments should be sent to Commander P.W. Clark, Designated Federal Officer of NOSAC, Commandant (CG-5222), 2100 Second Street, SW., Washington, DC 20593-0001; or by fax to 202-372-1926. This notice is available on our online docket, USCG-2009-0485, at http://www.regulations.gov.

FOR FURTHER INFORMATION CONTACT: Commander P.W. Clark, Designated Federal Officer of NOSAC, or Mr. Kevin Y. Pekarek, Assistant Designated Federal Officer, telephone 202-372-1386; fax 202-372-1926.

SUPPLEMENTARY INFORMATION: Public participation is welcome and the public may participate in person by coming to Room 3317, U.S. Coast Guard Headquarters Building, 2100 Second Street, SW., Washington DC 20593 or by contacting Commander P.W. Clark at 202-372-1410 for call in information. Notice of this meeting is given under the Federal Advisory Committee Act, 5 U.S.C. App. 2 (Pub. L. 92-463).

Agenda of Meeting

The agenda for the July 8, 2009 Committee meeting is as follows:

(1) Introduction of Committee members and the public.

(2) Discussion of the near final draft Navigation Inspection Vessel Circular on noxious liquid substance carriage that addresses industry suggestions submitted at the April 23, 2009, NOSAC meeting.

(3) NOSAC to provide an update on work by the Subcommittee on Medical Treatment of Injured Workers from Outer Continental Shelf (OCS) Facilities. A discussion on the recommendations.

(4) NOSAC to provide update on the work of the Foreign Citizens Engaged in OCS Activities subcommittee including an interim report if available.

(5) NOSAC Subchapter N Economic Analysis Working Group report to the Coast Guard for 33 CFR Subchapter N regulations.

(6) USCG/Minerals Management Service (MMS) may provide a brief discussion of MMS recently released notice to lessees that effect NOSAC stakeholders.

Procedural

This meeting is open to the public. Please note that the meeting may close early if all business is finished. At the Chair's discretion, members of the public may make oral presentations during the meeting. If you would like to make an oral presentation at a meeting, please notify the DFO no later than July 1, 2009. Written material for distribution at this meeting should reach the Coast Guard no later than July 1, 2009.

Minutes

The teleconference will be recorded, and a summary will be available for the public review and copying 30 days following the teleconference meeting at the following location (http://www.fido.gov/facadatabase).

Information on Services for Individuals With Disabilities

For information on facilities or services for individuals with disabilities or to request special assistance at the meeting, contact Mr. Kevin Pekarek at 202-372-1386 as soon as possible.

Dated: June 10, 2009.
J. G. Lantz,
Director of Commercial Regulations and Standards.

[FR Doc. E9-14248 Filed 6-16-09; 8:45 am]

BILLING CODE 4910-15-P